DEPARTMENT OF LABOR

Occupational Safety and Health Administration

[Docket No. NRTL-1-89]

Intertek Testing Services, NA, Inc., Application for Expansion of Recognition

AGENCY: Occupational Safety and Health Administration (OSHA), Labor.

ACTION: Notice.

SUMMARY: This notice announces the application of Intertek Testing Services, NA, Inc., for expansion of its recognition as a Nationally Recognized Testing Laboratory under 29 CFR 1910.7, and presents the Agency's preliminary finding. This preliminary finding does not constitute an interim or temporary approval of this application.

DATES: Comments submitted by interested parties, or any request for extension of the time to comment, must be received no later than November 16, 2001.

ADDRESSES: Submit written comments concerning this notice to: Docket Office, Docket NRTL1-89, U.S. Department of Labor, Occupational Safety and Health Administration, Room N2625, 200 Constitution Avenue, NW, Washington, DC 20210; telephone: (202) 693-2350. Commenters may transmit written comments of 10 pages or less in length by facsimile to (202) 693-1648. Submit request for extensions concerning this notice to: Office of Technical Programs and Coordination Activities, NRTL Program, Occupational Safety and Health Administration, U.S. Department of Labor, Room N3653, 200 Constitution Avenue, NW, Washington, DC 20210.

FOR FURTHER INFORMATION CONTACT: Bernard Pasquet, Office of Technical Programs and Coordination Activities at the above address, or phone (202) 693-2110.

SUPPLEMENTARY INFORMATION:

Notice of Application

The Occupational Safety and Health Administration (OSHA) hereby gives notice that Intertek Testing Services, NA, Inc. (ITSNA), has applied for expansion of its current recognition as a Nationally Recognized Testing Laboratory (NRTL). ITSNA's expansion request covers the use of an additional testing site. OSHA's current scope of recognition for ITSNA may be found in the following informational web page: http://www.osha-slc.gov/dts/otpca/nrtl/its.html.

OSHA recognition of an NRTL signifies that the organization has met the legal requirements in section 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

The most recent notices published by OSHA for ITSNA's recognition covered its renewal of recognition, which OSHA announced on December 17, 1998 (63 FR 69676) and granted on May 29, 2001 (66 FR 29178). In the May notice, we briefly explain the lapse in time between the two notices. Generally, the period between the two notices is about 1 to 2 months.

The current address of the ITSNA testing facilities already recognized by OSHA are:

ITSNA Antioch, 2200 Wymore Way, Antioch, California 94509

ITSNA Atlanta, 1950 Evergreen Blvd., Suite 100, Duluth, Georgia 30096

ITSNA Boxborough, 70 Codman Hill Road, Boxborough, Massachusetts 01719

ITSNA Cortland, 3933 U.S. Route 11, Cortland, New York 13045

ITSNA Los Angeles, 27611 LaPaz Road, Suite C, Laguna Niguel, California 92677

ITSNA Madison, 8431 Murphy Drive, Middleton, Wisconsin 53562

ITSNA Minneapolis, 7250 Hudson Blvd., Suite 100, Oakdale, Minnesota 55128

ITSNA San Francisco, 1365 Adams Court, Menlo Park, CA 94025

ITSNA Totowa, 40 Commerce Way, Unit B, Totowa, New Jersey 07512

ITSNA Vancouver, 211 Schoolhouse Street, Coquitlam, British Columbia, V3K 4X9 Canada

ITSNA Hong Kong, 2/F., Garment Centre, 576 Castle Peak Road, Kowloon, Hong Kong

ITSNA Taiwan, 14/F., Huei Fung Building, 27, Chung Shan North Road, Sec. 3, Taipei 10451, Taiwan

The current address of the additional ITSNA testing site covered by the expansion application is: Intertek Testing Services NA Sweden AB, Box 1103, S-164 #22, Kista, Stockholm, Sweden.

General Background on the Application

ITSNA has submitted an application, dated February 25, 1997 (see Exhibit 35), to expand its recognition to include a site located in Stockholm, Sweden. The NRTL Program staff reviewed the application and determined that it was acceptable based on the guidelines that were then in effect. However, the program staff deferred further consideration of the application primarily due to processing of other requests submitted by ITSNA for expansion and renewal of its recognition, which were pending at the time the application was received. As explained in prior Federal Register notices, most recently a notice published on May 29, 2001 (66 FR 29178), consideration of those other requests had been deferred until December 1996.

The program staff resumed processing of the application for recognition of the Stockholm facility in June 1998, and the staff performed an on-site review (assessment) of the facility on September 24-25, 1998. In the on-site review report (see Exhibit 36), the program staff recommended a “positive finding,” which means a positive recommendation on the recognition to the Assistant Secretary. However, the Agency further delayed processing of the application in January 1999 pending resolution of certain requests made by ITSNA, which also affected the other requests by ITSNA for expansion and for renewal of its recognition. In April 2000, ITSNA submitted information pertinent to its other requests and to its application for the Stockholm site and submitted additional information pertinent to the application in July 2001. The NRTL Program staff has reviewed the information and determined that OSHA may proceed with processing the application for the Stockholm site.

The application contains sufficient information demonstrating the testing capabilities of the Stockholm site listed above. The additional information list the personnel to be devoted to testing for ITSNA's NRTL operations and shows that the site listed above is a wholly-owned subsidiary of ITSNA. OSHA's recognition of the additional site would not be limited to any particular test standards. However, recognition of this site would be limited to performing product testing only to the test standards for which the site has the proper capability and programs, and for which OSHA has recognized ITSNA. This treatment is consistent with the recognition that OSHA has granted to other NRTLs that operate multiple sites. The Agency would not recognize the site to issue certifications under ITSNA's operations as an NRTL. Currently, ITSNA issues such certifications only at specific sites listed above, and OSHA must review and accept the Stockholm site before ITSNA issues certifications there. In addition, OSHA would permit the site to use of all eight of the “supplemental” programs. OSHA has already recognized ITSNA for these programs and, as a result, we are not listing them again in this notice, but merely providing this information as a matter of public interest.

OSHA has described the “supplemental” programs referred to above in a March 9, 1995 Federal Register notice (60 FR 12980, 3/9/95). This notice described nine (9) programs and procedures (collectively, programs), eight of which (the “supplemental programs”) an NRTL may use to control, audit, and accept the data relied upon for product certification. Such data is not normally generated at the NRTL's facility or by NRTL personnel. The notice also includes the criteria for the use by the NRTL of these eight, or supplemental, programs. An NRTL's initial recognition will always include the first or basic program, which requires that all product testing and evaluation be performed in-house by the NRTL that will certify the product.

OSHA developed the programs to limit how an NRTL may perform certain aspects of its work and to permit the activities covered under the programs only when the NRTL meets certain criteria. In this sense, they are special conditions that the Agency places on an NRTL's recognition. OSHA does not consider these programs in determining whether an NRTL meets the requirements for recognition under 29 CFR 1910.7. However, these programs help to define the scope of that recognition.

Existing Conditions

Currently, OSHA imposes the following conditions on its recognition of ITSNA as an NRTL. These conditions would apply also to the recognition of the Stockholm site. As mentioned in previous notices, these conditions apply solely to ITSNA's operations as an NRTL, and are in addition to any other condition that OSHA normally imposes in its recognition of an organization as an NRTL. These conditions are listed in this notice mainly for information.

(1) ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports.

(2) ITSNA may not test and certify any products for a client that is a manufacturer or vendor that is either owned in excess of 2% by ITSLtd or affiliated organizationally with ITSNA, including Compliance Design.

Preliminary Finding

ITSNA has submitted an acceptable request for expansion of its recognition as an NRTL. As previously mentioned, in connection with the request, OSHA has performed an on-site review (evaluation) of the ITSNA Stockholm, Sweden, facility (site). ITSNA has addressed the discrepancies noted by the assessors following the review, and the assessors included the resolution in the on-site review reports (see Exhibit 36).

Following a review of the application file, the on-site review report, and other pertinent information, the NRTL Program staff has concluded that OSHA can grant to ITSNA the expansion of recognition for the Stockholm, Sweden, site listed above, subject to the conditions as noted. The staff therefore recommended to the Assistant Secretary that the application be preliminarily approved.

Based upon the recommendations of the staff, the Assistant Secretary has made a preliminary finding that Intertek Testing Services, NA, Inc., can meet the requirements as prescribed by 29 CFR 1910.7 for the expansion of recognition, subject to the above conditions. This preliminary finding, however, does not constitute an interim or temporary approval of the applications for ITSNA.

OSHA welcomes public comments, in sufficient detail, as to whether ITSNA has met the requirements of 29 CFR 1910.7 for expansion of its recognition as a Nationally Recognized Testing Laboratory. Your comment should consist of pertinent written documents and exhibits. To consider it, OSHA must receive the comment at the address provided above (see ADDRESSES), no later than the last date for comments (see “DATES” above). You may obtain or review copies of ITSNA's application, the on-site review report, and all submitted comments, as received, by contacting the Docket Office, Room N2625, Occupational Safety and Health Administration, U.S. Department of Labor, at the above address. You should refer to Docket No. NRTL1-89, the permanent record of public information on ITSNA's recognition.

The NRTL Program staff will review all timely comments and, after resolution of issues raised by these comments, will recommend whether to grant ITSNA's expansion request. The Assistant Secretary will make the final decision on granting the expansion, and in making this decision, may undertake other proceedings that are prescribed in Appendix A to 29 CFR section 1910.7. OSHA will publish a public notice of this final decision in the Federal Register.

Signed at Washington, DC this 22d day of October, 2001.
John L. Henshaw,
Assistant Secretary.

[FR Doc. 01-27450 Filed 10-31-01; 8:45 am]

BILLING CODE 4510-26-P